DEPARTMENT OF AGRICULTURE

Forest Service

Deschutes Provincial Advisory Committee (DPAC) Meeting

AGENCY: Forest Service, USDA.

ACTION: Notice of meeting.

SUMMARY: The Deschutes Provincial Advisory Committee will meet on May 19-20, 2004. The first day will be a field trip to the Sisters Ranger District to discuss the Metolius Basin Forest Management Project. The second day will be a business meeting starting at 9 am at the Bend-Ft. Rock Ranger District in Red Oaks Square at 1230 NE 3rd St., Suite A254, Bend, Oregon. Agenda items will include final recommendations for the Upper Deschutes Resource Management Plan, FERC Relicensing, Northwest Forest Plan Monitoring, Davis Fire Recovery Update, and an open public forum from 4 til 4:30. All Deschutes Province Advisory Committee Meetings are open to the public.

FOR FURTHER INFORMATION CONTACT: Chris Mickle, Province Liaison, Deschutes NF, Crescent RD, P.O. Box 208, Crescent, OR, 97754, Phone (541) 433-3216.

Dated: April 6, 2004.
Leslie A.C. Weldon,
Forest Supervisor.

[FR Doc. 04-8452 Filed 4-13-04; 8:45 am]

BILLING CODE 3410-11-M